DEPARTMENT OF AGRICULTURE

Agricultural Research Service

Notice of Intent to Grant Exclusive License

AGENCY: Agricultural Research Service, USDA.

ACTION: Notice of intent.

SUMMARY: Notice is hereby given that the U.S. Department of Agriculture, Agricultural Research Service, intends to grant to P & M Signs, Inc. of Mountainair, New Mexico, an exclusive license to the Federal Government's rights in U.S. Patent No. 6,586,504, “Wood And Plastic Composite Material And Methods For Making Same”, issued on July 1, 2003.

DATES: Comments must be received on or before July 29, 2011.

ADDRESSES: Send comments to: USDA, ARS, Office of Technology Transfer, 5601 Sunnyside Avenue, Rm. 4-1174, Beltsville, Maryland 20705-5131.

FOR FURTHER INFORMATION CONTACT: June Blalock of the Office of Technology Transfer at the Beltsville address given above; telephone: 301-504-5989.

SUPPLEMENTARY INFORMATION: The patent rights in this invention are co-owned by the United States of America, as represented by the Secretary of Agriculture, and P & M Signs, Inc. of Mountainair, New Mexico. The prospective exclusive license will grant to the co-owner, P & M Signs, Inc., an exclusive license to the Federal Government's patent rights. It is in the public interest to so license this invention as P & M Signs, Inc. has submitted a complete and sufficient application for a license. The prospective exclusive license will be royalty-bearing and will comply with the terms and conditions of 35 U.S.C. 209 and 37 CFR 404.7. The prospective exclusive license may be granted unless, within thirty (30) days from the date of this published Notice, the Agricultural Research Service receives written evidence and argument which establishes that the grant of the license would not be consistent with the requirements of 35 U.S.C. 209 and 37 CFR 404.7.

Richard J. Brenner,
Assistant Administrator.

[FR Doc. 2011-16250 Filed 6-28-11; 8:45 am]

BILLING CODE 3410-03-P